DEPARTMENT OF HEALTH AND HUMAN SERVICES

Administration for Children and Families

Submission for OMB Review; Comment Request

Proposed Projects

Title: Supporting Healthy Marriage Project Baseline Data Collection Extension OMB No.: 0970-0299.

Description: The Administration for Children and Families (ACF) is conducting an evaluation study titled Supporting Healthy Marriage (SHM). This is a largescale, multi-site, rigorous test of marriage and relationship skills education programs for low-income married couples. The baseline information collection for the study was previously approved by the Office of Management and Budget (OMB Number 0970-0299) and expires on of May 31, 2009. The purpose of this notice is to inform the public of ACF's intent to request an extension of this clearance prior to its expiration.

The SHM project is founded on research that indicates that both adults in healthy marriages and their children do better on a host of outcomes. The evaluation study will determine the interim and long-term effectiveness of eight local programs by comparing outcomes on a range of measures for couples and children in the program group to a comparable group of couples randomly assigned to a control group.

Baseline information is collected from couples at the time they volunteer to participate in an SHM program. The baseline data collection provides information about the characteristics of the husband and wife and information about their attitudes and beliefs about their relationship at study entry.

This information will be used to inform the public, program operators and policymakers about the characteristics of married couples who volunteer for marriage education programs and, among other uses, it will be used to define and conduct analyses of key subgroups, addressing a key study question of who benefits most from this type of marriage education service.

Respondents: Low-income married couples.

Annual Burden Estimates
Instrument | Annual number of respondents | Number of responses per respondent | Average burden hours per response (in minutes) | Estimated annual burden hours
Eligibility Checklist | 3126 | 1 | 5 | 260
Informed Consent Form | 3126 | 1 | 10 | 521
Baseline Information Form | 3126 | 1 | 9 | 469
Self-Administered Questionnaire | 3126 | 1 | 11 | 573
Contact Information Sheet | 3126 | 1 | 10 | 521
Estimated Annual Burden Hours |  |  |  | 2344

Additional Information

Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Coment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: November 26, 2008.
Steven M. Hanmer,
OPRE Reports Clearance Officer.

[FR Doc. E8-28625 Filed 12-3-08; 8:45 am]

BILLING CODE 4184-01-M